DEPARTMENT OF THE INTERIOR

National Park Service

[NPS-WASO-NAGPRA-NPS0034451; PPWOCRADN0-PCU00RP14.R50000]

Notice of Inventory Completion: Field Museum of Natural History, Chicago, IL

AGENCY: National Park Service, Interior.

ACTION: Notice.

SUMMARY: The Field Museum of Natural History has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Field Museum of Natural History. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Field Museum of Natural History at the address in this notice by October 6, 2022.

FOR FURTHER INFORMATION CONTACT: Helen Robbins, Repatriation Director, Field Museum of Natural History, 1400 South Lake Shore Drive, Chicago, IL 60605-2496, telephone (312) 665-7317, email hrobbins@fieldmuseum.org.

SUPPLEMENTARY INFORMATION: Notice is here given in accordance with the Native American Graves Protection and Repatriation Act (NAGPRA), 25 U.S.C. 3003, of the completion of an inventory of human remains under the control of the Field Museum of Natural History, Chicago, IL. The human remains were removed from the Pueblo of Pojoaque, Santa Fe County, NM.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Field Museum of Natural History professional staff in consultation with representatives of the Pueblo of Pojoaque, New Mexico.

History and Description of the Remains

Sometime prior to 1960, human remains representing, at minimum, one individual were removed from the Pueblo of Pojoaque in Santa Fe County, NM. No accession record or documentation of donation to the Field Museum has been found. The human remains belong to an adult, 35-50 years old and possibly male. No known individual was identified. No associated funerary objects are present.

Field Museum of Natural History records identify the human remains as “Pueblo,” indicating that the collector was aware of the cultural affiliation of the individual. Based on the specific cultural and geographic attribution in the museum records, the human remains are determined to be culturally affiliated with the Pueblo of Pojoaque, New Mexico.

Determinations Made by the Field Museum of Natural History

Officials of the Field Museum of Natural History have determined that:

• Pursuant to 25 U.S.C. 3001(9), the human remains described in this notice represent the physical remains of one individual of Native American ancestry.

• Pursuant to 25 U.S.C. 3001(2), there is a relationship of shared group identity that can be reasonably traced between the Native American human remains and the Pueblo of Pojoaque, New Mexico.

Additional Requestors and Disposition

Lineal descendants or representatives of any Indian Tribe or Native Hawaiian organization not identified in this notice that wish to request transfer of control of these human remains should submit a written request with information in support of the request to Helen Robbins, Field Museum of Natural History, 1400 South Lake Shore Drive, Chicago, IL 60605-2496, telephone (312) 665-7317, email hrobbins@fieldmuseum.org, by October 6, 2022. After that date, if no additional requestors have come forward, transfer of control of the human remains to the Pueblo of Pojoaque, New Mexico may proceed.

The Field Museum of Natural History is responsible for notifying the Pueblo of Pojoaque, New Mexico that this notice has been published.

Dated: August 29, 2022.
Melanie O'Brien,
Manager, National NAGPRA Program.

[FR Doc. 2022-19170 Filed 9-2-22; 8:45 am]

BILLING CODE 4312-52-P